COMMITTEE FOR PURCHASE FROM PEOPLE WHO ARE BLIND OR SEVERELY DISABLED

Procurement List; Proposed Additions and Deletions

AGENCY: Committee for Purchase From People Who Are Blind or Severely Disabled.

ACTION: Proposed additions and deletions from the Procurement List.

SUMMARY: The Committee is proposing to add products to the Procurement List that will be furnished by nonprofit agencies employing persons who are blind or have other severe disabilities, and deletes products previously furnished by such agencies.

Comments Must Be Received on or Before: 3/5/2017.

ADDRESSES: Committee for Purchase From People Who Are Blind or Severely Disabled, 1401 S. Clark Street, Suite 715, Arlington, Virginia, 22202-4149.

FOR FURTHER INFORMATION OR TO SUBMIT COMMENTS CONTACT: Amy B. Jensen, Telephone: (703) 603-2132, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the products listed below from the nonprofit agency employing persons who are blind or have other severe disabilities.

The following products are proposed for addition to the Procurement List for production by the nonprofit agency listed:

Products

NSN(s)—Product Name(s):

3920-00-NIB-0001—Hand Truck, 48″ H x 22″ W, 8″ Solid Rubber Wheels

3920-00-NIB-0002—Hand Truck, 45″ H x 18″ W, 10″ Solid Rubber Wheels

3920-00-NIB-0003—Hand Truck, Economy, 40″ H x 18″ W, 8″ Zero-Pressure Rubber Tires

3920-00-NIB-0004—Hand Truck, Double Handle, 48″ H x 22″ W, 10″ Pneumatic Tires

3920-00-NIB-0005—Hand Truck, Convertible, 48″ H x 22″ W, 10″ Pneumatic Tires with Wheel Guards

Mandatory for: Total Government Requirement

Mandatory Source(s) of Supply: Envision Enterprises Inc., Wichita, KS

Contracting Activity: Defense Logistics Agency Troop Support

Distribution: B-List

Deletions

The following products are proposed for deletion from the Procurement List:

Products

NSN(s)—Product Name(s): 2540-00-402-2157—Curtain, Vehicular

Mandatory Source(s) of Supply: APEX, Inc., Anadarko, OK

Contracting Activity: Defense Logistics Agency Land and Maritime.

NSN(s)—Product Name(s):

1440-01-126-8966—Tarpaulin

1440-01-132-7799—Cover, Protective

Mandatory Source(s) of Supply: Huntsville Rehabilitation Foundation, Huntsville, AL

Contracting Activity: Defense Logistics Agency Land and Maritime.

NSN(s)—Product Name(s): 2590-01-114-7396—Kit, Repair

Mandatory Source(s) of Supply: Association of Retarded Citizens of Sabine, Inc., Many, LA

Contracting Activity: Defense Logistics Agency Land and Maritime.

NSN(s)—Product Name(s):

8415-01-579-8677—Multi-Cam Trouser Size: L-S

8415-01-579-8744—Multi-Cam Trouser Size: L-XL

8415-01-579-8553—Multi-Cam Trouser Size: M-S

8415-01-579-8570—Multi-Cam Trouser Size: M-XL

8415-01-579-8227—Multi-Cam Trouser Size: S-XS

8415-01-579-8354—Multi-Cam Trouser Size: S-L

8415-01-579-8791—Multi-Cam Trouser Size: XL-R

8415-01-579-9119—Multi-Cam Trouser Size: XL-XXL

8415-01-579-8112—Multi-Cam Trouser Size: XS-L

8415-01-579-7850—Multi-Cam Trouser Size: XS-XS

8415-01-579-9132—Multi-Cam Trouser Size: XXL-XXL

8415-01-579-9120—Multi-Cam Trouser Size: XXL-R

8415-01-579-8719—Multi-Cam Trouser Size: L-L

8415-01-579-8385—Multi-Cam Trouser Size: S-XL

8415-01-579-8558—Multi-Cam Trouser Size: M-R

8415-01-579-8580—Multi-Cam Trouser Size: M-XXL

8415-01-579-8263—Multi-Cam Trouser Size: S-S

8415-01-579-8365—Multi-Cam Trouser Size: S-XXL

8415-01-579-8771—Multi-Cam Trouser Size: XL-L

8415-01-579-8080—Multi-Cam Trouser Size: XS-S

8415-01-579-8126—Multi-Cam Trouser Size: XS-XL

8415-01-579-9121—Multi-Cam Trouser Size: XXL-L

8415-01-579-8591—Multi-Cam Trouser Size: XXL-XS

8415-01-579-8784—Multi-Cam Trouser Size: XL-XS

8415-01-579-8551—Multi-Cam Trouser Size: M-XS

8415-01-579-8684—Multi-Cam Trouser Size: L-XS

8415-01-579-8276—Multi-Cam Trouser Size: S-R

Mandatory Source(s) of Supply:

Goodwill Industries of South Florida, Inc., Miami, FL

ReadyOne Industries, Inc., El Paso, TX

Contracting Activity: Army Contracting Command—Aberdeen Proving Ground, Natick Contracting Division

NSN(s)—Product Name(s): 6135-01-486-1443—Battery, Non-Rechargeable, 6V, Alkaline, NEDA 915A

Mandatory Source(s) of Supply: Eastern Carolina Vocational Center, Inc., Greenville, NC

Contracting Activity: Defense Logistics Agency Land and Maritime

Amy B. Jensen,
Director, Business Operations.

[FR Doc. 2017-02344 Filed 2-2-17; 8:45 am]

BILLING CODE 6353-01-P